ENVIRONMENTAL PROTECTION AGENCY

[ER-FRL-8585-1]

Environmental Impact Statements; Notice of Availability

Responsible Agency: Office of Federal Activities, General Information (202) 564-1399 or http://www.epa.gov/compliance/nepa/.

Weekly Receipt of Environmental Impact Statements

Filed 08/18/2008 Through 08/22/2008.

Pursuant to 40 CFR 1506.9.

EIS No. 20080326, Draft Supplement, FHW, NC, US 74 Relocation, from US-129 in Robbinsville to NC 28 in Stecoah, Funding and U.S. Army COE Section 404 Permit, Transportation Improvement Program Project No. A-9 B&C, Graham County, NC, Comment Period Ends: 10/14/2008, Contact: John F. Sullivan 919-856-4346.

EIS No. 20080327, Draft EIS, FHW, MT, Russell Street/South 3rd Street Reconstruction Project, To Address Current and Projected Safety and Operational needs, Funding and U.S. Army COE Section 404 Permit, City of Missoula, Missoula County, MT, Comment Period Ends: 10/20/2008, Contact: Lloyd H. Rue 406-449-5302.

EIS No. 20080328, Final EIS, BLM, UT, Price Field Resource Management Plan, Selected the Preferred Alternative D, Non-Wilderness Study Area (WSA) Lands with Wilderness Characteristics. Implementation, Carbon and Emery Counties, UT, Wait Period Ends: 09/29/2008, Contact: Floyd L. Johnson 435-636-3600.

EIS No. 20080329, Final EIS, AFS, NM, Santa Fe National Forest Project, Settlement Land Transfers: Pueblo de San lldefonso, Pueblo of Santa Clara and Los Alamos County, Implementation, Santa Fe National Forest, Los Alamos, Rio Arriba and Santa Fe Counties, NM, Wait Period Ends: 09/29/2008, Contact: Sandy Hurlocker 505-753-7331.

EIS No. 20080330, Draft Supplement, COE, NC, Topsail Beach Interim (Emergency) Beach Fill Project—Permit Request, Proposal to Place Sand on 4.7 miles of the Town's Shoreline to Protect the Dune Complex and Oceanfront Development, Onslow and Pender Counties, NC, Comment Period Ends: 10/14/2008, Contact: S. Kenneth Jolly 910-251-4630.

EIS No. 20080331, Draft EIS, NOA, 00, Proposed Acceptable Biological Catch (ABC) and Optimum Yield (OY) Specifications and Management Measures for the 2009-2010 Pacific Coast Groundfish Fishery Management Plan, Implementation, WA, OR and CA, Comment Period Ends: 10/14/2008, Contact: Robert Lohn 206-526-6150.

EIS No. 20080332, Final EIS, FHW, WA, Interstate 90 Snoqualmie Pass East Project, Proposes to Improve a 15-mile Portion of I-90 from Milepost 55.10 in Hyak to Milepost 70.3 New Easton, Funding, U.S. Army COE Section 404 Permit and NPDES Permit, Kittitas County, WA, Wait Period Ends: 09/29/2009, Contact: Liana Liu 360-753-9553.

EIS No. 20080333, Draft EIS, IBR, CO, Windy Gap Firming Project, Construct a New Water Storage Reservoir to Deliver Water to Front Range and West Slope Communities and Industries, Funding, NPDES and U.S. Army COE Section 404 Permit, Grand and Larimer Counties, CO, Comment Period Ends: 10/28/2008, Contact: Will Tully 970-962-4368.

EIS No. 20080334, Final EIS, NOA, 00, North Atlantic Right Whale Ship Strike Reduction Strategy, To Implement the Operational Measures to Reduce the Occurrence and Severity of Vessel Collisions with the Right Whale, Serious Injury and Deaths Resulting from Collisions with Vessels, Wait Period Ends: 09/29/2008, Contact: David Cottingham 301-713-2322.

EIS No. 20080335, Final EIS, BLM, 00, Alabama and Mississippi Resource Management Plan, Analyzes Management Alternatives for the Public Land and Resources, in Portions of the States of Alabama and Mississippi, Wait Period Ends: 09/29/2008, Contact: Brenda Hudgen-Williams 202-452-5112.

Amended Notices

EIS No. 20080325, Final EIS, NRC, NC, Generic—License Renewal of Nuclear Plants (GEIS) Regarding Shearon Harris Nuclear Power Plant, Unit 1, Plant-Specific Supplement 33 to NUREG-1437, Wake County, NC, Wait Period Ends: 09/22/2008, Contact: Samuel Hernandez 301-415-4049 Revision to FR Notice Published 08/22/2008. Correction to the state from CA to NC.

Dated: August 26, 2008.
Ken Mittelholtz,
Environmental Protection Specialist, Office of Federal Activities.

[FR Doc. E8-20127 Filed 8-28-08; 8:45 am]

BILLING CODE 6560-50-P